FEDERAL COMMUNICATIONS COMMISSION

[FR ID 305012]

Sunshine Act; Deletion of Item From July 24, 2025 Open Meeting

July 22, 2025.

The following item was adopted by the Commission on July 18, 2025 and deleted from the list of items scheduled for consideration at the Thursday, July 24, 2025, Open Meeting. The item was previously listed in the Commission's Sunshine Notice on Thursday, July 17, 2025.

Item No. | Bureau | Subject
7 | MANAGING DIRECTOR | Title: Personnel Action #25-09—Promotion Summary: The Commission will consider a personnel action.
8 | MANAGING DIRECTOR | Title: Personnel Action #25-10—Promotion Summary: The Commission will consider a personnel action.
9 | MANAGING DIRECTOR | Title: Personnel Action #25-11—Promotion Summary: The Commission will consider a personnel action.
10 | MANAGING DIRECTOR | Title: Personnel Action #25-12—Promotion Summary: The Commission will consider a personnel action.
11 | MANAGING DIRECTOR | Title: Personnel Action #25-13—Promotion Summary: The Commission will consider a personnel action.
12 | PUBLIC SAFETY AND HOMELAND SECURITY | Title: Appointment of the Defense Commissioner Summary: The Commission will consider a personnel action regarding the appointment of the Defense Commissioner.

Federal Communications Commission.
Marlene Dortch,
Secretary.

[FR Doc. 2025-14121 Filed 7-23-25; 4:15 pm]

BILLING CODE 6712-01-P